DEPARTMENT OF TRANSPORTATION

Federal Aviation Administration

Aviation Rulemaking Advisory Committee Meeting on Air Carrier and General Aviation Maintenance Issues

AGENCY: Federal Aviation Administration (FAA) DOT.

ACTION: Notice of public meeting.

SUMMARY: The Federal Aviation Administration (FAA) is issuing this notice to advise the public of a meeting of the FAA Aviation Rulemaking Advisory Committee to discuss Air Carrier and General Aviation Maintenance Issues. Specifically, the committee will discuss tasks concerning quality assurance and ratings for aeronautical repair stations.

DATES: The meeting will be held April 17-18, 2002, from 10 a.m. to 5 p.m. Arrange for teleconference capability and presentations no later than 3 business days before the meeting.

ADDRESSES: The meeting will be held at the Helicopter Association International, 1635 Prince Street, Alexandria, VA 22134-2818.

FOR FURTHER INFORMATION CONTACT: Vanessa R. Wilkins, Federal Aviation Administration, Office of Rulemaking (ARM-207), 800 Independence Avenue, SW., Washington, DC 20591, telephone (202) 267-8029; fax (202) 267-5075.

SUPPLEMENTARY INFORMATION: Pursuant to § 10(a)(2) of the Federal Advisory Committee Act (Public Law 92-463; 5 U.S.C. App. II), notice is hereby given of a meeting of the Aviation Rulemaking Advisory Committee to discuss air carrier and general aviation maintenance issues. The meeting will be held April 17-18, 2002, from 10 a.m. to 5 p.m. at the Helicopter Association International, 1635 Prince Street, Alexandria, VA 22134-2818. The committee will discuss quality assurance and ratings for aeronautical repair stations.

Attendance is open to the public, but will be limited to the space available. The FAA will arrange teleconference capability for individuals wishing to participate by teleconference if we receive notification no later than 3 business days before the meeting. Arrangements to participate by teleconference can be made by contacting the person listed in the FOR FURTHER INFORMATION CONTACT section. Callers outside the Washington metropolitan area will be responsible for paying long distance charges.

To present oral statements at the meeting, members of the public must make arrangements no later than 3 business days before the meeting. The public may present written statements to the committee at any time by providing 25 copies to the Assistant Executive Director, or by bringing the copies to the meeting. In addition, sign and oral interpretation can be made available at the meeting, as well as assistive listening device, if requested no later than 10 calendar days before the meeting. Arrangements may be made by contacting the person listed under the heading FOR FURTHER INFORMATION CONTACT.

Issued in Washington, DC, on March 25, 2002.
Anthony F. Fazio,
Executive Director, Aviation Rulemaking Advisory Committee.

[FR Doc. 02-7482 Filed 3-27-02; 8:45 am]

BILLING CODE 4910-13-M